DEPARTMENT OF HOMELAND SECURITY

Coast Guard

[Docket No. USCG-2013-0833]

Towing Safety Advisory Committee; Vacancies

AGENCY: Coast Guard.

ACTION: Request for applications.

SUMMARY: The Coast Guard seeks applications for membership on the Towing Safety Advisory Committee (TSAC). This Committee advises the Secretary of the Department of Homeland Security on matters relating to shallow-draft inland and coastal waterway navigation and towing safety. Applicants selected for service on TSAC via this solicitation will not begin their respective terms until September 30, 2014.

DATES: Completed applications should reach the Coast Guard on or before November 18, 2013.

ADDRESSES: Send your application via one of the following methods:

Email: William.A.Nabach@uscg.mil.

Fax: (202) 372-8379.

Mail: Commandant (CG-OES-2) ATTN: Towing Safety Advisory Committee, U.S. Coast Guard Stop 7509, 2703 Martin Luther King Jr Ave. SE., Washington, DC 20593-7509.

Be advised that all regular mail to Coast Guard Headquarters is first sent to an offsite screening facility. Delivery of your application may be delayed.

FOR FURTHER INFORMATION CONTACT: Commander Rob Smith, Designated Federal Officer (DFO) of the Towing Safety Advisory Committee (TSAC); telephone (202) 372-1410; fax (202) 372-8379; or email: Robert.L.Smith@uscg.mil.

SUPPLEMENTARY INFORMATION: The Towing Safety Advisory Committee is a federal advisory committee under 5 U.S.C. App. (Pub. L. 92-463). It was founded under authority of the Act to establish a Towing Safety Advisory Committee in the Department of Transportation, (Pub. L. 96-380), which was most recently amended by section 621 of the Coast Guard Authorization Act of 2010, (Pub. L. 111-281). The Committee advises the Secretary of Homeland Security on matters relating to shallow-draft inland and coastal waterway navigation and towing safety.

It is expected the Committee will meet twice per year in cities with high concentrations of towing companies and also in the Washington, DC area. It may also meet for extraordinary purposes. Subcommittees of TSAC may conduct intercessional telephonic meetings, when necessary, in response to specific U.S. Coast Guard taskings.

The committee consists of 18 members:

○ Seven members representing the barge and towing industry reflecting a regional geographical balance;

○ One member representing the offshore mineral and oil supply vessel industry;

○ One member representing holders of active licensed Masters or Pilots of towing vessels with experience on the Western Rivers and the Gulf Intracoastal Waterway;

○ One member representing the holders of active licensed Masters of towing vessels in offshore service;

○ One member representing active Masters who are active ship-docking or harbor towing vessel;

○ One member representing licensed or unlicensed towing vessel engineers with formal training and experience;

○ Two members representing each of the following groups:

○ (1) Port districts, authorities or terminal operators;

○ (2) Shippers (of whom at least one shall be engaged in the shipment of oil or hazardous materials by barge); and,

○ Two members drawn from the general public.

The Coast Guard is currently considering applications for six positions that will become vacant on September 30, 2014:

• Two members representing the Barge and Towing industry reflecting a regional geographic balance;

• One member representing holders of active licensed Masters or Pilots of towing vessels with experience on the Western Rivers and the Gulf Intracoastal Waterway;

• One member representing active Masters of ship-docking or harbor towing vessels;

• One member representing Port districts, authorities or terminal operators; and,

• One member drawn from the general public.

To be eligible, applicants should have particular expertise, knowledge, and experience regarding shallow-draft inland and coastal waterway navigation and towing safety.

Registered lobbyists are not eligible to serve on federal advisory committees. Registered lobbyists are lobbyists required to comply with provisions contained in the Lobbying Disclosure Act of 1995 (Pub. L. 104-65, as amended by Title II of Pub. L. 110-81).

Each member serves for a term of up to 3 years. Members may be considered to serve consecutive terms. All members serve without compensation from the Federal Government; however, upon request, members may receive travel reimbursement and per diem.

In an effort to maintain a geographic balance of membership, we are encouraging representatives from tug and barge companies operating on the Western Rivers to apply for representation on the Committee.

The Department of Homeland Security (DHS) does not discriminate in employment on the basis of race, color, religion, sex, national origin, political affiliation, sexual orientation, gender identity, marital status, disability and genetic information, age, membership in an employee organization, or other non-merit factor. DHS strives to achieve a widely diverse candidate pool for all of its recruitment actions.

If you are selected as a non-representative member, or as a member drawn from the general public, you will be appointed and serve as a special Government employee (SGE) as defined in section 202(a) of Title 18, United States Code. As a candidate for appointment as a SGE, applicants are required to complete a Confidential Financial Disclosure Report (OGE Form 450). DHS may not release the reports or the information in them to the public except under an order issued by a Federal court or as otherwise provided under the Privacy Act (5 U.S.C. 552a). Applicants can obtain this form by going to the Web site of the Office of Government Ethics (www.oge.gov), or by contacting the individual listed in “For Further Information Contact” Applications which are not accompanied by a completed OGE Form 450 will not be considered.

If you are interested in applying to become a member of the Committee, send a cover letter and resume to Lieutenant Commander William Nabach, ADFO of TSAC by email, fax, or mail according to the instructions in the ADDRESSES section by the deadline in the DATES section of this notice. Indicate the specific position you request to be considered for and specify your area of expertise, knowledge, and experience that qualifies you to serve on TSAC. Note that during the vetting process applicants may be asked to provide date of birth and social security number. All email submittals will receive email receipt confirmation.

To visit our online docket, go to http://www.regulations.gov. Enter the docket number for this notice (USCG-2013-0833) in the Search box, and click “Search”. Please do not post your resume or OGE-450 Form on this site.

Dated: September 26, 2013.
J.G. Lantz,
Director of Commercial Regulations and Standards.

[FR Doc. 2013-23996 Filed 10-1-13; 8:45 am]

BILLING CODE 9110-04-P